DEPARTMENT OF THE INTERIOR

National Park Service

30-Day Federal Register Notice of Submission of United States Park Police Personal History Statements Questionnaire to the Office of Management and Budget; Opportunity for Public Comment

AGENCY: National Park Service, The Department of the Interior.

ACTION: Notice and request for comments.

SUMMARY: Under the provisions of the Paperwork Reduction Act of 1995 (Public Law, 104-13,44 U.S.C. 3507) and 5 CFR part 1320, Reporting and Recordkeeping Requirements, the National Park Service (NPS) invites comments on a submitted request to the Office of Management and Budget (OMB) to approve an extension of a currently approved information collection clearance (OMB 1024-0245). Comments are invited on (1) the need for the information including whether the information has practical utility; (2) the accuracy of this reporting burden estimate; (3) ways to enhance the quality, utility, and clarity of the information to be collected on respondents, including the use of automated collection techniques or other forms of information technology. This program will measure performance in meeting goals as required by the 1995 Government Performance and Results Act.

Executive Order 12968 establishes investigative standards for all United States Government civilian and military personnel. 5 CFR Part 731 establishes criteria and procedures for making determinations of suitability for employment in positions in competitive service. The Position of Police Officer in the United States Park Police is Critical Sensitive. The purpose of the United States Park Police Personal History Statement Questionnaire is to collect detailed information that will be used principally as a basis for an investigation to determine suitable applicants for the position of United States Park Police Office. There were no public comments received as a result of publishing in the Federal Register a 60-day notice of intention to request clearance of information collection for this questionnaire.

DATES: Public Comments on the Information Collection Request will be accepted on or before May 12, 2004 to be assured of consideration. The Office of Management and Budget (OMB) has up to 60 days to approve or disapprove the information collection but may respond after 30 days. Therefore to ensure maximum consideration, OMB should receive comments 30 days from the date of publication in the Federal Register.

ADDRESSES: You may submit comments directly to the Desk Office for the Department of the Interior (OMB 1024-0245), Office of Information and Regulatory Affairs, OMB, by fax at (202) 395-6566 or by electronic mail at oira_docket@omb.eop.gov. E-mail or fax a copy of your comments to Lieutenant Charles A. Orton, Assistant Commander Human Resources Office, United States Park Police, 1100 Ohio Drive, SW., Washington, DC 20024, via fax at (202) 619-7479, or via e-mail at Charles_A_Orton@nps.gov. All comments will become a matter of public record.

For Further Information or a Copy of the United States Park Police Personal History Statements Questionnaire Submitted for OMB Review, Contact: Lieutenant Charles A. Orton, Assistant Commander Human Resources Office, United States Park Police, 1100 Ohio Drive SW., Washington, DC 20024, via fax at (202) 619-7479, or via e-mail at Charles_A_Orton@nps.gov or via telephone at (202) 619-7001.

SUPPLEMENTARY INFORMATION: Title: United States Park Police Personal History Statements Questionnaire.

OMB Number: 1024-0245.

Expiration Date: 02/29/04.

Type of request: Extension of a currently approved collection.

Description of need: The NPS uses the information collections to hire adequately screened applicants for the position of United States Park Police Officer.

Respondents: Individual applicants to the position of United States Park Police Officer.

Respondents: Individual applicants to the position of United States Park Police Officer.

Estimated Number of Respondents: NPS estimates that there are 600 respondents. This is the gross number of respondents for all of the elements included in this information collection. The net number of applicants in this information collection annually are 600 applicants. Applicants complete the application each time a vacancy announcement is published.

Estimated average number of Applicant responses: 600 annually.

Estimated average burden hours per Applicant response: 8 hours.

Estimated Annual Burden on Respondents: 4,800 Hours.

Dated: February 26, 2004.
Leonard E. Stone,
Acting NPS Information Collection Officer, Washington Administrative Program Center.

[FR Doc. 04-8163 Filed 4-9-04; 8:45 am]

BILLING CODE 4310-59-M